ENVIRONMENTAL PROTECTION AGENCY

[OA-2003-0006, FRL-7636-2]

Agency Information Collection Activities: Proposed Collection; Comment Request; Innovation Database Information Collection, EPA ICR Number 2128.01

AGENCY: Environmental Protection Agency (EPA).

ACTION: Notice.

SUMMARY: In compliance with the Paperwork Reduction Act (44 U.S.C. 3501 et seq.), this document announces that EPA is planning to submit a proposed Information Collection Request (ICR) to the Office of Management and Budget (OMB). This is a request for a new collection. Before submitting the ICR to OMB for review and approval, EPA is soliciting comments on specific aspects of the proposed information collection as described below.

DATES: Comments must be submitted on or before May 1, 2004.

ADDRESSES: Submit your comments, referencing docket ID number OA-2003-0006, to EPA online using EDOCKET (our preferred method), by e-mail to oei.docket@epa.gov, or by mail to: EPA Docket Center, Environmental Protection Agency, OEI Docket, 28221T, 1200 Pennsylvania Ave., NW., Washington, DC 20460.

FOR FURTHER INFORMATION CONTACT: Marc Olender, Environmental Protection Agency, 1200 Pennsylvania Ave., NW., Washington, DC 20460; telephone number: (202) 566-2238; fax number: (202) 566-2200; e-mail address: olender.marc@epa.gov.

SUPPLEMENTARY INFORMATION: EPA has established a public docket for this ICR under Docket ID number OA-2003-0006, which is available for public viewing at the OEI Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the OEI Docket is (202) 566-1752. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Affected entities: Entities potentially affected by this action are State regulatory agencies.

Title: State Input to the EPA Innovation Catalogue.

Abstract: The Innovation Catalogue is a searchable Web-based database containing over 500 innovative projects from across the Environmental Protection Agency (EPA), and is hosted on the EPA's Intranet. The Innovation Catalogue is one of the Agency's tools for communicating and fostering the transfer of our innovation experience. It has been used to identify pollution prevention case study candidates, and has also proven to be a valuable means of providing quarterly reports on the Agency's innovation activities and accomplishments to the Administrator. The Innovation Catalogue has expanded EPA's professional tool box for solving environmental problems innovatively.

Thus far, the Catalogue has only been accessible to EPA staff for viewing and editing via a password-protected Intranet site. However, the Agency is proposing to make the Catalogue accessible to State government staff. State staff who are interested in accessing the database could request a password, after which they would be granted access to the Catalogue. Once registered, they would be given viewing and submittal access. State officials with passwords would be able to contribute innovations of their own for publication in the database, and in addition, they would be granted editing access to projects that they submitted.

State involvement with the Innovation Catalogue would be voluntary. EPA would work with State organizations and State trade associations, such as the Environmental Council of States, to publicize the availability of the database. EPA would encourage voluntary State involvement in the database by asking state environmental agencies to contribute their own innovative projects for consideration and publication in the Innovation Catalogue. State staffers would input their innovative projects directly into the Catalogue using a predefined template. State input into the Catalogue would enrich the database with a larger and more diverse range of innovative projects. By sharing information on innovative approaches between the EPA and its State partners, both EPA and the States would benefit from using more cost-effective and creative techniques of environmental protection.

An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: EPA estimates that each State will submit 15 entries to the Innovation Catalogue per year. We have derived this estimate from our discussions with Innovation Coordinators in the Regions. Each entry will take approximately one hour. We anticipate that each State will revise and update its entry twice a year, which will also take an hour. Average State salaries were obtained from the the Bureau of Labor Statistics' Employer Costs for Employee Compensation (ECEC) data from December 2002. The calculations summarizing these estimates follow in the table below.

Table 1.1.—Summary of Annualized Respondent Burden, January 1, 2004-December 31, 2007
| Facility/state burden hours ¹ | Facility burden cost ² | Total burden hours ³ | Total burden cost
State Submissions to the Catalogue
New Submissions for Consideration | 30 | $37.47 | 1500 | $56,205.00
Revising Published Submissions | 30 | 37.47 | 1500 | 56,205.00
Summary:
Total Respondent Burden, 2004-2007 | 180 | 37.47 | 9000 | 337,230.00
Annualized Total Respondent Burden | 60 | 37.47 | 3000 | 112,410.00
¹ EPA estimates burden hours by assuming each State will submit 15 new entries per year, with each new submission requiring 2 hours. EPA estimates that each State will submit a revision of each submission every six months, and revisions will only require 1 hour.
² EPA estimates hourly non-EPA labor rates from several sources. For State Government and Respondent wages, EPA uses the Bureau of Labor Statistics' Employer Costs for Employee Compensation (ECEC) data from December 2002 (http://www.bls.gov/news.release/ecec.t04.htm and http://www.bls.gov/news.release/ecec.t12.htm, respectively). Consistent with the Office of Management and Budget's 1999 guidance Estimating Paperwork Burden (http://www.whitehouse.gov/omb/fedreg/5cfr1320.html), EPA uses an adjusted labor rate reflective of benefits and overhead costs.
³ Calculated by multiplying the Facility Burden Hours by the Number of Facilities/States.
⁴ Calculated by multiplying the Total Burden Hours by the Facility Burden Cost.

Dated: March 1, 2004.
Elizabeth A. Shaw,
Director, Office of Environmental Policy Innovation.

[FR Doc. 04-5765 Filed 3-12-04; 8:45 am]

BILLING CODE 6560-50-P